DEPARTMENT OF ENERGY

Agency Information Collection Extension; Correction

AGENCY: U.S. Department of Energy.

ACTION: Submission for Office of Management and Budget (OMB) review; comment request; Correction.

SUMMARY: The Department of Energy (DOE) published a document in the Federal Register of December 16, 2011, announcing the submission of an information collection request to the OMB for extension under the provisions of the Paperwork Reduction Act of 1995. The information collection requests a three-year extension of its “Technology Partnerships Ombudsmen Reporting Requirements”, OMB Control Number 1910-5118. This document corrects errors in that notice.

FOR FURTHER INFORMATION CONTACT: Requests for additional information or copies of the Information collection instrument and instructions should be directed to Kathleen Binder at kathleen.binder@hq.doe.gov.

Correction

In the Federal Register of December 16, 2011, in FR Doc. 2011-32251, please make the following corrections:

On page 78252, first column, under the heading SUMMARY, the second sentence is corrected to read: The information collection requests a three-year extension of its “Technology Partnerships Ombudsmen Reporting Requirements”, OMB Control Number 1910-5118.

On page 78252, second column, under the heading SUPPLEMENTARY INFORMATION, (1) is corrected to read: (1) OMB No. 1910-5118;

Issued in Washington, DC on December 21, 2011.
Kathleen M. Binder,
Director, Office of Conflict Prevention and Resolution, Office of Hearings and Appeals.

[FR Doc. 2011-33244 Filed 12-27-11; 8:45 am]

BILLING CODE 6450-01-P